DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

[Docket Number FRA-2007-29295]

Applicant: R. J. Corman Railroad, Mr. J. D. Boles, Manager of Signals, 101 McKenna Way, Bardstown, Kentucky 40004.

The R. J. Corman Railroad seeks approval of the proposed discontinuance and removal of two operative approach signals. The operative approach signals are located at each end of the R. J. Corman Railroad, Central Kentucky Line Old Road Subdivision, one approaching CSX Transportation's (CSXT) CP North Cabin, Milepost VB 113.8, Winchester, Kentucky, and one approaching CSXT's CP HK Tower, Milepost W12.5, Anchorage, Kentucky. Signal 1128 is located within yard limits, and is approaching North Cabin CP. Signal 131 is approaching HK Tower CP. It is proposed to replace each signal with a permanent fixed sign. The reason for the proposed changes is that present day operation does not warrant need or retention of operative approach signals.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number ( Docket No. FRA-2007-29295) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on November 26, 2007.
Grady C. Cothen, Jr.,
Deputy Associate Administrator for Safety Standards and Program Development.

[FR Doc. E7-23201 Filed 11-29-07; 8:45 am]

BILLING CODE 4910-06-P